DEPARTMENT OF THE INTERIOR

National Park Service

Notice of Intent to Repatriate a Cultural Item: American Museum of Natural History, New York, NY

AGENCY: National Park Service, Interior.

ACTION: Notice.

Notice is here given in accordance with the Native American Graves Protection and Repatriation Act (NAGPRA), 25 U.S.C. 3005, of the intent to repatriate a cultural item in the possession of the American Museum of Natural History, New York, NY, that meets the definitions of “sacred object” and “object of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

The cultural item is a fan-shaped headdress with an attached mask. The headdress is approximately 91 centimeters in length, 87 centimeters wide, and 4 centimeters in depth. The mask is a cloth, Loveland flour sack with its brand marking still visible. It is perforated with three holes near the eyes and mouth. The headdress is arranged in two ranks of wooden slats connected by cross pieces in the center and on either end, making the shape of a fan. The top rank contains thirty-two slats and both sides are painted with six diamonds of red and yellow. The bottom rank contains fourteen slats and both sides are painted with three triangles that are also red and yellow.

This cultural item was acquired by Mrs. Amelia E. White, though the circumstances of her acquisition are unknown. In 1937, the museum acquired the headdress from Mrs. White as a gift. The museum accessioned the item in 1937. The cultural affiliation of the cultural item is San Carlos Apache, as indicated by museum records and by consultation evidence presented by the Western Apache Working Group, which consists of the authorized NAGPRA representatives from the San Carlos Apache Tribe of the San Carlos Reservation, Arizona; Tonto Apache Tribe of Arizona; White Mountain Apache Tribe of the Fort Apache Reservation, Arizona; and Yavapai-Apache Nation of the Camp Verde Indian Reservation, Arizona.

Officials of the American Museum of Natural History have determined that, pursuant to 25 U.S.C. 3001 (3)(D), the one cultural item described above has ongoing historical, traditional, or cultural importance central to the Native American group or culture itself, rather than property owned by an individual. Officials of the American Museum of Natural History also have determined that, pursuant to 25 U.S.C. 3001 (3)(C), the one cultural item described above is a specific ceremonial object needed by traditional Native American religious leaders for the practice of traditional Native American religions by their present-day adherents. Lastly, officials of the American Museum of Natural History have determined that, pursuant to 25 U.S.C. 3001 (2), there is a relationship of shared group identity that can be reasonably traced between the sacred object/object of cultural patrimony and the San Carlos Apache Tribe of the San Carlos Reservation, Arizona.

Representatives of any other Indian tribe that believes itself to be culturally affiliated with the sacred object/object of cultural patrimony should contact Nell Murphy, Director of Cultural Resources, American Museum of Natural History, Central Park West at 79th Street, New York, NY 10024, telephone (212) 769-5837, before December 20, 2007. Repatriation of the sacred object/object of cultural patrimony to the San Carlos Apache Tribe of the San Carlos Reservation, Arizona may proceed after that date if no additional claimants come forward.

The American Museum of Natural History is responsible for notifying the San Carlos Apache Tribe of the San Carlos Reservation, Arizona; Tonto Apache Tribe of Arizona; White Mountain Apache Tribe of the Fort Apache Reservation, Arizona; and Yavapai-Apache Nation of the Camp Verde Indian Reservation, Arizona that this notice has been published.

Dated: October 18, 2007
Sherry Hutt,
Manager, National NAGPRA Program.

[FR Doc. E7-22674 Filed 11-19-07; 8:45 am]

BILLING CODE 4312-50-S